DEPARTMENT OF TRANSPORTATION

Maritime Administration

Maritime Security Act of 2003, Subtitle D—National Defense Tank Vessel Construction Assistance

AGENCY: Maritime Administration, DOT.

ACTION: Supplemental notice of request for competitive proposals for construction of new product tank vessels.

SUMMARY: The purpose of the supplemental notice is to amend the schedule contained in section I of the Request for Competitive Proposals (RFP) which is available on the Internet at http://www.fedbizopps.gov and http://www.marad.dot.gov and the hard copies of the RFP which are available in the Office of the Secretary, Maritime Administration.

FOR FURTHER INFORMATION CONTACT: Gregory V. Sparkman, Office of Insurance and Shipping Analysis, Maritime Administration, Room 8117, 400 Seventh Street, SW., Washington, DC 20590; telephone (202) 366-2400; fax (202) 366-7901.

SUPPLEMENTARY INFORMATION: The supplemental notice amends the schedule contained in section I of the current RFP by extending the currently scheduled date for submission of Phase I Proposals by 45 days. This extension necessitates the extension of other deadline dates by 45 days.

Three companies submitted initial comments in response to the notice published in the Federal Register on February 20, 2004, on the National Defense Tank Vessel Construction Assistance Program. Two of the commenters requested a 45-day extension be granted with respect to the due date on the Phase I Proposals, which is currently set for May 4, 2004. According to the two companies making the request, the grant of the 45-day extension will ensure that MARAD receives competitive proposals that will present the best value to the government. The third commenter requested that MARAD delay responses to the RFP until funds are specifically appropriated for the National Defense Vessel Construction Program.

MARAD believes that delay of responses to the RFP until funds are specifically appropriated could seriously delay the implementation of the program. On the other hand, the grant of the 45-day extension on the due date of Phase I—Request for Competitive Proposals—should enable the proponents of extension to improve the quality of their submission.

The schedule contained in section I of the RFP shall be modified to reflect the 45-day extension, as follows:

Issue RFP—Friday, February 20, 2004

Phase I Proposals Due—Friday, June 18, 2004 (120 calendar days)

Phase I Evaluation Complete—Thursday, September 2, 2004 (76 calendar days)

Phase II Offerors Notified—Tuesday, September 7, 2004 (5 calendar days)

Phase II Proposals Due—Saturday, November 20, 2004 (75 calendar days)

Phase II Evaluation Complete—Thursday, February 3, 2005 (75 calendar days)

The RFP is available on the Internet at http://www.fedbizopps.gov and http://www.marad.dot.gov. Hard copies of the amended RFP will be available in the Office of the Secretary, Maritime Administration.

Authority: 49 CFR 1.66.

By Order of the Maritime Administrator.
Dated: April 8, 2004.
Joel C. Richard,
Secretary, Maritime Administration.

[FR Doc. 04-8409 Filed 4-13-04; 8:45 am]

BILLING CODE 4910-81-P